DEPARTMENT OF AGRICULTURE

Submission for OMB Review; Comment Request

March 17, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business Service

Title: Annual Survey of Cooperative Involvement in International Markets.

OMB Control Number: 0570-0020.

Summary of Collection: The mission of the Cooperative Services Program of Rural Business-Cooperative Service (RBS) is to assist farmer-owned cooperatives in improving the economic well being of their farmer-members. To facilitate the program's mission and activities as authorized by the Cooperative Marketing Act of 1926, RBS collects, maintains, and analyzes data pertaining to farmer cooperatives. Information is collected through an annual survey mailed to all cooperatives.

Need and Use of the Information: The information collected by RBS will be used to comply with the agency's mission to acquire and report such information. In addition to monitoring and reporting the progress of cooperatives in global markets, RBS will use the data in economic/market research and will also produce educational materials about cooperatives.

Description of Respondents: Business or other for-profit.

Number of Respondents: 105.

Frequency of Responses: Reporting: Annually.

Total Burden Hours: 105.

Ruth Brown,
Departmental Information Collection Clearance Officer.

[FR Doc. 05-5715 Filed 3-22-05; 8:45 am]

BILLING CODE 3410-XT-M